DEPARTMENT OF JUSTICE

Notice of Lodging of Proposed First Modification To Consent Decree Under the Clean Water Act

On October 25, 2023, the Department of Justice lodged a proposed first modification to the consent decree (“First Modification”) with the United States District Court for the District of Massachusetts in the lawsuit entitled United States and Commonwealth of Massachusetts v. City of Revere, Massachusetts, Civil Action No. 1:10-cv-11460 (D. Mass.).

The United States filed this lawsuit in 2010 under the Clean Water Act (“Act”). The complaint sought injunctive relief and civil penalties for violations of the Act in connection with the City of Revere's operation of its sewage collection system and municipal separate storm sewer system (“MS4”). The allegations in the Complaint were resolved in a consent decree entered on November 17, 2010 (“Consent Decree”) in which the City of Revere agreed, among other things, to develop and implement a Comprehensive Wastewater Management Plan and Comprehensive Stormwater Management Plan (“CWMP/CSMP”) to ensure identification and implementation of capital projects necessary to eliminate sanitary sewer overflows (“SSOs”) and bring its MS4 into compliance with National Pollutant Elimination System (“NPDES”) permit requirements.

The proposed First Modification replaces the Consent Decree CWMP/CSMP provisions with new provisions that require the City of Revere to update portions of its CWMP/CSMP by December 31, 2026. This update must include a summary of work completed pursuant to the Consent Decree, assessment of the City of Revere sewer system current service level and associated review of capacity-related SSOs, development and assessment of alternatives to achieve the goal of the Consent Decree to prevent collection system surcharges or capacity-related SSOs events, and a recommended plan and implementation schedule identifying projects to attain the target level of sewer system service of a ten-year design storm. The new provisions also extend the deadline for completion of all work proposed under Revere's CWMP/CSMP to December 31, 2038.

The publication of this notice opens a period for public comment on the First Modification. Comments should be addressed to the Assistant Attorney General, Environment and Natural Resources Division, and should refer to United States and Commonwealth of Massachusetts v. City of Revere, Massachusetts, Civil Action No. 1:10-cv-11460, D.J. Ref. No. 90-5-1-1-09299. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the First Modification may be examined and downloaded at this Justice Department website: https://www.justice.gov/enrd/consent-decrees. We will provide a paper copy of the First Modification upon written request and payment of reproduction costs. Please mail your request and payment to: Consent Decree Library, U.S. DOJ—ENRD, P.O. Box 7611, Washington, DC 20044-7611.

Please enclose a check or money order for $4.50 (25 cents per page reproduction cost) payable to the United States Treasury.

Henry Friedman,
Assistant Section Chief, Environmental Enforcement Section, Environment and Natural Resources Division.

[FR Doc. 2023-24168 Filed 11-1-23; 8:45 am]

BILLING CODE 4410-15-P